DEPARTMENT OF ENERGY

Federal Energy Regulatory Commission

[Docket No. CP08-458-000]

UGI LNG, Inc.; Notice of Technical Conference

November 25, 2008.

On Thursday, December 11, 2008, at 9 a.m. (EST), staff of the Office of Energy Projects will convene an engineering design and technical conference regarding the proposed Temple LNG Storage Expansion Project. The conference will be held at Federal Energy Regulator Commission (FERC) headquarters in Washington, District of Columbia. The FERC headquarters building is located at 888 First Street, NE., Washington, DC.

In view of the nature of critical energy infrastructure information and security issues to be explored, the cryogenic conference will not be open to the public. Attendance at this conference will be limited to existing parties to the proceeding (anyone who has specifically requested to intervene as a party) and to representatives of interested Federal, State, and local agencies. Any person planning to attend the December 11th cryogenic conference must register by close of business on Tuesday, December 9th, 2008. Registrations may be submitted either online at http://www.ferc.gov/whats-new/registration/cryo-conf-form.asp or by faxing a copy of the form (found at the referenced online link) to 202-208-0353. All attendees must sign a non-disclosure statement prior to entering the conference. For additional information regarding the cryogenic conference, please contact Thach Nguyen at 202-502-6364.

Kimberly D. Bose,
Secretary.

[FR Doc. E8-28573 Filed 12-1-08; 8:45 am]

BILLING CODE 6717-01-P